DEPARTMENT OF TRANSPORTATION

Federal Aviation Administration

14 CFR Part 39

[Docket No. FAA-2015-3941; Product Identifier 2015-SW-052-AD; Amendment 39-21232; AD 2020-18-11]

RIN 2120-AA64

Airworthiness Directives; Airbus Helicopters Deutschland GmbH Helicopters

AGENCY: Federal Aviation Administration (FAA), Department of Transportation (DOT).

ACTION: Final rule.

SUMMARY: The FAA is adopting a new airworthiness directive (AD) for Airbus Helicopters Deutschland GmbH (Airbus Helicopters) Model MBB-BK 117 A-3, MBB-BK 117 A-4, MBB-BK 117 B-1, MBB-BK 117 B-2, and MBB-BK 117 C-1 helicopters. This AD was prompted by reports that the adhesive seal prevented the doors from jettisoning properly. This AD requires removing certain seals, replacing certain seals with newly certified seals and revising the existing Rotorcraft Flight Manual (RFM) for your helicopter. The FAA is issuing this AD to address the unsafe condition on these products.

DATES: This AD is effective November 10, 2020.

The Director of the Federal Register approved the incorporation by reference of certain publications listed in this AD as of November 10, 2020.

ADDRESSES: For service information identified in this final rule, contact Airbus Helicopters, 2701 N Forum Drive, Grand Prairie, TX 75052; telephone 972-641-0000 or 800-232-0323; fax 972-641-3775; or at https://www.airbus.com/helicopters/services/technical-support.html. You may view this service information at the FAA, Office of the Regional Counsel, Southwest Region, 10101 Hillwood Pkwy., Room 6N-321, Fort Worth, TX 76177. For information on the availability of this material at the FAA, call 817-222-5110.

Examining the AD Docket

You may examine the AD docket on the internet at https://www.regulations.gov by searching for and locating Docket No. FAA-2015-3941; or in person at Docket Operations between 9 a.m. and 5 p.m., Monday through Friday, except Federal holidays. The AD docket contains this final rule, the European Aviation Safety Agency (now European Union Aviation Safety Agency) (EASA) AD, any service information that is incorporated by reference, any comments received, and other information. The street address for Docket Operations is listed above.

FOR FURTHER INFORMATION CONTACT: Matt Fuller, AD Program Manager, Operational Safety Branch, Airworthiness Products Section, General Aviation and Rotorcraft Unit, FAA, 10101 Hillwood Pkwy., Fort Worth, TX 76177; telephone 817-222-5110; email matthew.fuller@faa.gov.

SUPPLEMENTARY INFORMATION:

Discussion

The FAA issued a supplemental notice of proposed rulemaking (SNPRM) to amend 14 CFR part 39 by adding an AD that would apply to Airbus Helicopters Model MBB-BK 117 A-3, MBB-BK 117 A-4, MBB-BK 117 B-1, MBB-BK 117 B-2, and MBB-BK 117 C-1 helicopters. The SNPRM published in the Federal Register on April 28, 2020 (85 FR 23492) (“the SNPRM”). The FAA preceded the SNPRM with a notice of proposed rulemaking (NPRM) that published in the Federal Register on May 5, 2016 (81 FR 27057) (“the NPRM”). The NPRM was prompted by reports that the adhesive seal prevented the doors from jettisoning properly. The NPRM proposed to require removing adhesive seal part number (P/N) 117-800201.01 from the exterior and interior of each sliding door. The NPRM also proposed to prohibit the installation of this part-numbered adhesive seal on any helicopter sliding door. The SNPRM proposed to expand the applicability. The SNPRM also proposed to add requirements to replace certain seals with newly certified seals and revise the existing RFM for your helicopter. The FAA is issuing this AD to address the presence of sealant on a sliding door, which could result in the door failing to jettison and preventing helicopter occupants from exiting the helicopter during an emergency.

EASA, which is the aviation authority for the Member States of the European Union, issued EASA AD 2015-0163R1, dated April 27, 2016 (“EASA AD 2015-0163R1”) (referred to after this as the Mandatory Continuing Airworthiness Information, or “the MCAI”), to correct an unsafe condition for Airbus Helicopters Model MBB-BK 117 A-3, MBB-BK 117 A-4, MBB-BK 117 B-1, MBB-BK 117 B-2, and MBB-BK 117 C-1 helicopters. EASA advised that difficulties were reported regarding the jettisoning of doors. The malfunction was caused by the adhesive seal, which hampered the free movement of the inner handle. According to EASA, a subsequent investigation showed that the adhesive seal has mechanical and physical properties that do not meet relevant certification requirements. EASA stated that this condition, if not detected and corrected, could lead to a malfunction of the door's jettisoning mechanism, reducing or preventing the evacuation of the helicopter during an emergency, possibly resulting in injury to occupants. To address this condition, EASA AD 2015-0163R1 required inspecting the exterior and interior door jettisoning system on the left and right sliding doors for adhesive seal P/N 117-800201.01 and removing those adhesive seals.

You may examine the MCAI in the AD docket on the internet at https://www.regulations.gov by searching for and locating Docket No. FAA-2015-3941.

Comments

The FAA gave the public the opportunity to participate in developing this final rule. The FAA received no comments on the SNPRM or on the determination of the cost to the public.

Conclusion

The FAA reviewed the relevant data and determined that air safety and the public interest require adopting this final rule as proposed, except for minor editorial changes. The FAA has determined that these minor changes:

• Are consistent with the intent that was proposed in the SNPRM for addressing the unsafe condition; and

• Do not add any additional burden upon the public than was already proposed in the SNPRM.

Related Service Information Under 1 CFR Part 51

The FAA reviewed Airbus Helicopters Alert Service Bulletin MBB-BK11720A-114, Revision 2, dated March 30, 2016, for Model MBB-BK 117 A-3, MBB-BK 117 A-4, MBB-BK 117 B-1, MBB-BK 117 B-2, and MBB-BK 117 C-1 helicopters. This service information describes procedures for cleaning and degreasing the seal installation areas and installing adhesive seal P/N 117-800201.02. This service information also specifies flight manual revisions with preflight check information for this new seal.

The FAA also reviewed Section 4—Normal Procedures, of MBB Helicopters Flight Manual MBB-BK117 A-3, Revision 17.1, MBB Helicopters Flight Manual MBB-BK117 A-4, Revision 16.1, MBB Helicopters Flight Manual MBB-BK117 B-1, Revision 20.1, Eurocopter Flight Manual BK117 B-2, Revision 21.2, and Eurocopter Flight Manual BK117 C-1, Revision 30.1, each dated March 25, 2015. This revision of the service information adds preflight check procedures for “Jettisonable sliding door installed, after ASB-BK117-20A-114” in Section 4—Normal Procedures, Preflight Exterior Check, under both “Fuselage—right side” and “Fuselage—left side” of the existing RFM for your helicopter.

This service information is reasonably available because the interested parties have access to it through their normal course of business or by the means identified in the ADDRESSES section.

Differences Between This AD and the EASA AD

The EASA AD does not mandate the installation of the new adhesive seals, whereas this AD does. Model MBB-BK 117 B-2 serial number 7203 is affected by the EASA AD but is not affected by this AD because it is ineligible for U.S. registration.

Costs of Compliance

The FAA estimates that this AD affects 45 helicopters of U.S. registry. Labor costs are estimated at $85 per work-hour. Based on these numbers, the FAA estimates the following costs to comply with this AD.

If installed, removing adhesive seals P/N 117-800201.01 would take about 0.5 work-hour for an estimated cost of about $43 per helicopter. Installing new seals and revising the existing RFM for your helicopter would take about 1 work-hour and a set of new seals (4 units) would cost about $5 for an estimated cost of $90 per helicopter and $4,050 for the U.S. fleet.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-18-11 Airbus Helicopters Deutschland GmbH: Amendment 39-21232; Docket No. FAA-2015-3941; Product Identifier 2015-SW-052-AD.

(a) Effective Date

This AD is effective November 10, 2020.

(b) Applicability

This AD applies to Airbus Helicopters Deutschland GmbH Model MBB-BK 117 A-3, MBB-BK 117 A-4, MBB-BK 117 B-1, MBB-BK 117 B-2, and MBB-BK 117 C-1 helicopters, certificated in any category.

(c) Unsafe Condition

This AD defines the unsafe condition as the presence of sealant on a sliding door (door). This condition could result in the door failing to jettison, preventing helicopter occupants from exiting the helicopter during an emergency.

(d) Compliance

You are responsible for performing each action required by this AD within the specified compliance time unless it has already been accomplished prior to that time.

(e) Required Actions

(1) Within 25 hours time-in-service after the effective date of this AD:

(i) For helicopters with adhesive seal part number (P/N) 117-800201.01 installed on an exterior or interior door, remove adhesive seal P/N 117-800201.01 from the interior and exterior of each door, remove any adhesive using solvent (CM 202 or equivalent) and remove any grease using methyl ethyl ketone (CM 217 or equivalent), and install adhesive seal P/N 117-800201.02. Refer to Figures 1 through 4 of Airbus Helicopters Alert Service Bulletin MBB-BK117-20A-114, Revision 2, dated March 30, 2016 (ASB MBB-BK117-20A-114) for a depiction of the seal installation areas.

(ii) For helicopters without adhesive seal P/N 117-800201.01 installed, clean the seal installation areas using solvent (CM 202 or equivalent), remove any grease using methyl ethyl ketone (CM 217 or equivalent), and install adhesive seal P/N 117-800201.02. Refer to Figures 1 through 4 of ASB MBB-BK117-20A-114 for a depiction of the seal installation areas.

(iii) Revise the Normal Procedures section, Preflight Exterior Check, under both “Fuselage—right side” and “Fuselage—left side” of the existing Rotorcraft Flight Manual for your helicopter by adding the information in Figure 1 to paragraph (e)(1)(iii) of this AD or by adding the information for “Jettisonable sliding door installed, after ASB-BK117-20A-114” of the following as applicable for your helicopter: MBB Helicopters Flight Manual MBB-BK117 A-3, Revision 17.1, MBB Helicopters Flight Manual MBB-BK117 A-4, Revision 16.1, MBB Helicopters Flight Manual MBB-BK117 B-1, Revision 20.1, Eurocopter Flight Manual BK117 B-2, Revision 21.2, or Eurocopter Flight Manual BK117 C-1, Revision 30.1, each dated March 25, 2015. Using a different document with information identical to the information for the “Jettisonable sliding door installed, after ASB-BK117-20A-114” procedures in the Flight Manual revision specified in this paragraph for your helicopter is acceptable for compliance with the requirements of this paragraph. This action may be performed by the owner/operator (pilot) holding at least a private pilot certificate and must be entered into the aircraft records showing compliance with this AD in accordance with § 43.9(a)(1) through (4) and § 91.417(a)(2)(v). The record must be maintained as required by § 91.417, § 121.380, or § 135.439.

(2) After the effective date of this AD, do not install adhesive seal P/N 117-800201.01 on any helicopter door.

(f) Alternative Methods of Compliance (AMOCs)

(1) The Manager, Rotorcraft Standards Branch, FAA, may approve AMOCs for this AD. Send your proposal to: Matt Fuller, AD Program Manager, Operational Safety Branch, Airworthiness Products Section, General Aviation and Rotorcraft Unit, FAA, 10101 Hillwood Pkwy., Fort Worth, TX 76177; telephone 817-222-5110; email 9-ASW-FTW-AMOC-Requests@faa.gov.

(2) For operations conducted under a 14 CFR part 119 operating certificate or under 14 CFR part 91, subpart K, the FAA suggests that you notify your principal inspector, or lacking a principal inspector, the manager of the local flight standards district office or certificate holding district office before operating any aircraft complying with this AD through an AMOC.

(g) Additional Information

The subject of this AD is addressed in European Aviation Safety Agency (now European Union Aviation Safety Agency) (EASA) AD 2015-0163R1, dated April 27, 2016. You may view the EASA AD on the internet at https://www.regulations.gov in Docket No. FAA-2015-3941.

(h) Subject

Joint Aircraft Service Component (JASC) Code: 5220, Emergency Exits.

(i) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Helicopters Alert Service Bulletin MBB-BK117-20A-114, Revision 2, dated March 30, 2016.

(ii) Section 4—Normal Procedures, of MBB Helicopters Flight Manual MBB-BK117 A-3, Revision 17.1, dated March 25, 2015.

(iii) Section 4—Normal Procedures, of MBB Helicopters Flight Manual MBB-BK117 A-4, Revision 16.1, dated March 25, 2015.

(iv) Section 4—Normal Procedures, of MBB Helicopters Flight Manual MBB-BK117 B-1, Revision 20.1, dated March 25, 2015.

(v) Section 4—Normal Procedures, of Eurocopter Flight Manual BK117 B-2, Revision 21.2, dated March 25, 2015.

(vi) Section 4—Normal Procedures, of Eurocopter Flight Manual BK117 C-1, Revision 30.1, dated March 25, 2015.

(3) For service information identified in this AD, contact Airbus Helicopters, 2701 N Forum Drive, Grand Prairie, TX 75052; telephone 972-641-0000 or 800-232-0323; fax 972-641-3775; or at https://www.airbus.com/helicopters/services/technical-support.html.

(4) You may view this service information at the FAA, Office of the Regional Counsel, Southwest Region, 10101 Hillwood Pkwy., Room 6N-321, Fort Worth, TX 76177. For information on the availability of this material at the FAA, call 817-222-5110.

(5) You may view this service information that is incorporated by reference at the National Archives and Records Administration (NARA). For information on the availability of this material at NARA, email fedreg.legal@nara.gov, or go to: https://www.archives.gov/federal-register/cfr/ibr-locations.html.

Issued on August 26, 2020.
Lance T. Gant,
Director, Compliance & Airworthiness Division, Aircraft Certification Service.

[FR Doc. 2020-21998 Filed 10-5-20; 8:45 am]

BILLING CODE 4910-13-P